DEPARTMENT OF COMMERCE

National Oceanic and Atmospheric Administration

50 CFR Part 660

[Docket No. 090428799-9802-01]

RIN 0648-BA10

Magnuson-Stevens Act Provisions; Fisheries Off West Coast States; Pacific Coast Groundfish Fishery; Inseason Adjustments to Fishery Management Measures

AGENCY: National Marine Fisheries Service (NMFS), National Oceanic and Atmospheric Administration (NOAA), Commerce.

ACTION: Final rule; inseason adjustments to biennial groundfish management measures; request for comments.

SUMMARY: This final rule makes inseason adjustments to commercial fishery management measures for several groundfish species taken in the U.S. exclusive economic zone (EEZ) off the coasts of Washington, Oregon, and California. These actions, which are authorized by the Pacific Coast Groundfish Fishery Management Plan (FMP), are intended to allow fisheries to access more abundant groundfish stocks while protecting overfished and depleted stocks.

DATES: Effective 0001 hours (local time) August 18, 2010. Comments on this final rule must be received no later than 5 p.m., local time on September 22, 2010.

ADDRESSES: You may submit comments, identified by RIN 0648-BA10, by any one of the following methods:

• Electronic Submissions: Submit all electronic public comments via the Federal eRulemaking Portal: http://www.regulations.gov.

• Fax: 206-526-6736, Attn: Gretchen Hanshew

• Mail: William W. Stelle, Jr., Regional Administrator, Northwest Region, NMFS, 7600 Sand Point Way, NE., Seattle, WA 98115-0070, Attn: Gretchen Hanshew.

Instructions: No comments will be posted for public viewing until after the comment period has closed. All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Gretchen Hanshew (Northwest Region, NMFS), 206-526-6147, fax: 206-526-6736, gretchen.hanshew@noaa.gov.

SUPPLEMENTARY INFORMATION:

Electronic Access

This final rule is accessible via the Internet at the Office of the Federal Register's Web site at http://www.gpoaccess.gov/fr/index.html. Background information and documents are available at the Pacific Fishery Management Council's (the Council or PFMC) Web site at http://www.pcouncil.org/.

Background

On December 31, 2008, NMFS published a proposed rule to implement the 2009-2010 specifications and management measures for the Pacific Coast groundfish fishery (73 FR 80516). The final rule to implement the 2009-2010 specifications and management measures for the Pacific Coast Groundfish Fishery was published on March 6, 2009 (74 FR 9874). This final rule was subsequently amended by inseason actions on April 27, 2009 (74 FR 19011), July 6, 2009 (74 FR 31874), October 28, 2009 (74 FR 55468), February 26, 2010 (75 FR 8820), May 4, 2010 (75 FR 23620), July 1, 2010 (75 FR 38030), and July 16, 2010 (75 FR 41386). Additional changes to the 2009-2010 specifications and management measures for petrale sole were made in two final rules: On November 4, 2009 (74 FR 57117), and December 10, 2009 (74 FR 65480). NMFS issued a final rule in response to a duly issued court order on July 8, 2010 (75 FR 39178). These specifications and management measures are at 50 CFR part 660, subpart G.

Limited Entry Non-Whiting Trawl Fishery Management Measures

Changes to the groundfish management measures implemented by this action were recommended by the Council, in consultation with Pacific Coast Treaty Indian Tribes and the States of Washington, Oregon, and California, at its June 11-17, 2010, meeting in Foster City, CA. The Council recommended adjusting the groundfish management measures to respond to updated fishery information and other inseason management needs. These changes include increases to bi-monthly cumulative limits in the commercial fisheries off Washington, Oregon, and California and a change to the lingcod retention regulations for salmon troll fishermen. The increases to cumulative limits are intended to allow additional harvest opportunities for species for which catch estimates through the end of the year are lower than anticipated. The change to the lingcod retention regulations is intended to relieve a restriction for salmon trollers that do not fish inside the groundfish rockfish conservation area (RCA). The increase to chilipepper rockfish trip limits in the limited entry trawl fishery slightly increases the projected impacts to bocaccio, a co-occurring overfished species. However, even with the slight increase in impacts for bocaccio, when combined with the projected impacts from all other fisheries, the 2010 OY for this rebuilding species is not projected to be exceeded.

Estimated mortality of overfished and target species are the result of management measures designed to meet the Pacific Coast Groundfish FMP objective of achieving, to the extent possible, but not exceeding, OYs of target species, while fostering the rebuilding of overfished stocks by remaining within their rebuilding OYs.

Limited Entry Non-Whiting Trawl Fishery

Chilipepper rockfish is an underutilized species, primarily due to fishery management measures that are intended to reduce impacts to co-occurring bocaccio, an overfished species. Recent inseason restrictions to trip limits for sablefish, Dover sole, petrale sole and other flatfish in the limited entry trawl fishery to prevent exceeding the 2010 OY for petrale sole and the limited entry trawl allocation for sablefish have reduced projected impacts to bocaccio in the trawl fishery. Due to the lower than anticipated projected impacts to bocaccio, the Council considered increasing the trip limits for chilipepper rockfish to provide additional harvest opportunities for this underutilized healthy stock. With the recommended chilipepper rockfish trip limit adjustments, projected impacts to overfished bocaccio are anticipated to be 7.5 mt, or 47 percent of the trawl fisheries' initially projected bocaccio impacts of 16.1 mt and projected impacts to chilipepper rockfish are anticipated to be well below the 2010 OY.

Based on the considerations outlined above, the Council recommended and NMFS is implementing the following changes to cumulative limits in the limited entry non-whiting trawl fishery: Increase chilipepper rockfish cumulative limits caught with all trawl gears South of 40°10.00′ N. lat. from “12,000 lb (5,443 kg) per 2 months” to “17,000 lb (7,711 kg) per 2 months” in July-December.

Limited Entry Fixed Gear Sablefish Daily Trip Limits

Catch of sablefish in the limited entry fixed gear daily trip limit (DTL) fishery north of 36° N. lat. is lower than anticipated. Based on the most recent fishery information, if no action is taken and catch remains lower than expected, only 236 mt out of the 321 mt sablefish allocation (73 percent) will be caught through the end of the year. The Council considered modest increases to the bi-monthly cumulative limits in the limited entry fixed gear sablefish DTL fishery north of 36° N. lat. to allow the fishery to attain a larger proportion of its sablefish allocation.

Projected impacts to overfished species in the limited entry fixed gear fishery are calculated assuming the entire sablefish allocation is harvested. Therefore, increases to trip limits to harvest a larger proportion of the sablefish allocation do not result in higher than anticipated impacts to co-occurring overfished groundfish species.

Based on the considerations outlined above, the Council recommended and NMFS is implementing the following changes to cumulative limits in the limited entry fixed gear sablefish DTL fishery North of 36° N. lat.: Increase the sablefish trip limits from “1,750 lb (794 kg) per week, not to exceed 7,000 lb (3,175 kg) per 2 months” to “1,750 lb per week, not to exceed 8,500 lb (3,856 kg) per 2 months” in periods 4 and 5 and from “1,750 lb per week, not to exceed 7,000 lb per 2 months” to “1,750 lb per week, not to exceed 8,000 lb (3,629 kg) per 2 months” in period 6, beginning as soon as possible.

Open Access Fishery

As part of the 2009-2010 Groundfish harvest specifications and management measures, the Council considered a change to the lingcod retention regulations for fishermen in the salmon troll fishery that wish to retain incidentally caught lingcod North of 40°10.00′ N. lat. Prior to 2009, salmon troll fishermen were not allowed to retain any groundfish, except yellowtail rockfish, if they were fishing inside the non-trawl rockfish conservation area (RCA). The Council recommended that salmon troll fishermen be allowed to retain a limited amount of lingcod, even if they were fishing for salmon inside of the non-trawl RCA, beginning in 2009. NMFS implemented language in Table 5 North that changed the lingcod retention regulations for salmon troll fishermen: “Salmon trollers may retain and land up to 1 lingcod per 15 Chinook, plus 1 lingcod up to a trip limit of 10 lingcod, both within and outside of the RCA.” At their June 2010 meeting, the Council requested that NMFS revise the lingcod retention allowance language to clarify that if salmon trollers fished entirely outside of the non-trawl RCA on a trip then they were not subject to the lingcod landing ratio of 1:15 with a trip limit of 10 lingcod, but were subject to the lingcod cumulative limit for the open access fishery, which is currently 400 lb (181 kg) per month. The intent of the change to the regulations in 2009 was to allow limited lingcod retention opportunities for salmon trollers fishing for salmon within the groundfish non-trawl RCA, and no changes to regulations that apply to salmon trollers operating outside of the RCA were intended.

At their June 2010 meeting, the Council requested that NMFS revise the lingcod retention regulations for salmon troll fishermen to relieve the restriction of “1 lingcod per 15 Chinook, plus 1 lingcod up to a trip limit of 10 lingcod” for salmon trollers that are operating entirely outside of the groundfish non-trawl RCA.

Based on the considerations outlined above, the Council recommended and NMFS is implementing the following changes to lingcod retention allowances for vessels fishing in the salmon troll fishery and operating outside of the non-trawl RCA North of 40°10.00′ N. lat.: From “Salmon trollers may retain and land up to 1 lingcod per 15 Chinook, plus 1 lingcod up to a trip limit of 10 lingcod, both within and outside of the RCA” to “Salmon trollers may retain and land up to 1 lingcod per 15 Chinook, plus 1 lingcod up to a trip limit of 10 lingcod, on a trip when any fishing occurs within the RCA.”

Classification

This rule makes routine inseason adjustments to groundfish fishery management measures based on the best available information and is taken pursuant to the regulations implementing the Pacific Coast Groundfish FMP.

These actions are taken under the authority of 50 CFR 660.370(c) and are exempt from review under Executive Order 12866.

These inseason adjustments are taken under the authority of the Magnuson-Stevens Fishery Conservation and Management Act (Magnuson-Stevens Act), and are in accordance with 50 CFR part 660, the regulations implementing the FMP. These actions are based on the most recent data available. The aggregate data upon which these actions are based are available for public inspection at the Office of the Administrator, Northwest Region, NMFS, (see ADDRESSES) during business hours.

For the following reasons, NMFS finds good cause to waive prior public notice and comment on the revisions to groundfish management measures under 5 U.S.C. 553(b)(B) because notice and comment would be impracticable and contrary to the public interest. Also, for the same reasons, NMFS finds good cause to waive the 30-day delay in effectiveness pursuant to 5 U.S.C. 553(d)(3), so that this final rule may become effective as quickly as possible.

The recently available data upon which these recommendations were based was provided to the Council, and the Council made its recommendations, at its June 11-17, 2010, meeting in Foster City, CA. The Council recommended that these changes be implemented as quickly as possible. There was not sufficient time after that meeting to draft this document and undergo proposed and final rulemaking before these actions need to be in effect. For the actions to be implemented in this final rule, affording the time necessary for prior notice and opportunity for public comment would prevent the Agency from managing fisheries using the best available science to approach, without exceeding, the OYs for federally managed species in accordance with the FMP and applicable laws. The adjustments to management measures in this document affect commercial fisheries off Washington, Oregon, and California.

These adjustments to management measures must be implemented in a timely manner to allow fishermen an opportunity to harvest higher limits in 2010 for chilipepper, sablefish and lingcod beginning as quickly as possible. Increases are necessary to relieve a restriction by allowing fishermen increased opportunities to harvest available healthy stocks while staying within the OYs for these species. These changes must be implemented in a timely manner, as quickly as possible, so that fishermen are allowed increased opportunities to harvest available healthy stocks and meet the objective of the Pacific Coast Groundfish FMP to allow fisheries to approach, but not exceed, OYs. It would be contrary to the public interest to wait to implement these changes until after public notice and comment, because making this regulatory change quickly allows additional harvest in fisheries that are important to coastal communities.

List of Subjects in 50 CFR Part 660

Fisheries, Fishing, Indian fisheries.

Dated: August 18, 2010.
Carrie Selberg,
Acting Director, Office of Sustainable Fisheries, National Marine Fisheries Service.

For the reasons set out in the preamble, 50 CFR part 660 is amended as follows:

PART 660--FISHERIES OFF WEST COAST STATES

1. The authority citation for part 660 continues to read as follows:

Authority: 16 U.S.C. 1801 et seq.

2. Table 3 (South), Tables 4 (North) and 4 (South), and Table 5 (North) to part 660, subpart G, are revised to read as follows:

BILLING CODE 3510-22-P

[FR Doc. 2010-20870 Filed 8-18-10; 4:15 pm]

BILLING CODE 3510-22-C